DEPARTMENT OF TRANSPORTATION

Federal Aviation Administration

14 CFR Part 39

[Docket No. FAA-2010-0564; Directorate Identifier 2010-SW-13-AD]

RIN 2120-AA64

Airworthiness Directives; Arrow Falcon Exporters, Inc. (Previously Utah State University), et al., Model HH-1K, TH-1F, TH-1L, UH-1A, UH-1B, UH-1E, UH-1F, UH-1H, UH-1L, and UH-1P Helicopters; and Southwest Florida Aviation Model UH-1B (SW204 and SW204HP) and UH-1H (SW205) Helicopters

AGENCY: Federal Aviation Administration, DOT.

ACTION: Notice of proposed rulemaking (NPRM).

SUMMARY: This document proposes adopting a new airworthiness directive (AD) for the specified type-certificated military surplus helicopters. The AD would require: Creating a component history card or equivalent record for each main rotor grip (grip); determining and recording the total hours time-in-service (TIS) for each grip; visually inspecting the upper and lower tangs of the grip for a crack; inspecting the grip buffer pads for delamination and if delamination is present, inspecting the grip surface for corrosion or other damage; inspecting the grip for a crack using ultrasonic (UT) and fluorescent-penetrant inspection methods; and establishing a retirement life for certain grips. This proposal is prompted by three in-flight failures of grips installed on Bell Helicopter Textron, Inc. (BHTI) Model 212 helicopters, which resulted from cracks originating in the lower main rotor blade bolt lug. The actions specified by the proposed AD are intended to prevent failure of the grip, separation of a main rotor blade, and subsequent loss of control of the helicopter.

DATES: Comments must be received on or before September 7, 2010.

ADDRESSES: Use one of the following addresses to submit comments on this proposed AD:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

You may get the service information identified in this proposed AD from Bell Helicopter Textron, Inc., P.O. Box 482, Fort Worth, TX 76101, telephone (817) 280-3391, fax (817) 280-6466, or at http://www.bellcustomer.com/files/.

You may examine the comments to this proposed AD in the AD docket on the Internet at http://www.regulations.gov.

FOR FURTHER INFORMATION CONTACT: DOT/FAA Southwest Region, Michael Kohner, ASW-170, Aviation Safety Engineer, Rotorcraft Directorate, Rotorcraft Certification Office, 2601 Meacham Blvd., Fort Worth, Texas 76137, telephone (817) 222-5170, fax (817) 222-5783.

SUPPLEMENTARY INFORMATION:

Comments Invited

We invite you to submit any written data, views, or arguments regarding this proposed AD. Send your comments to the address listed under the caption ADDRESSES. Include the docket number “FAA-2010-0564, Directorate Identifier 2010-SW-13-AD” at the beginning of your comments. We specifically invite comments on the overall regulatory, economic, environmental, and energy aspects of the proposed AD. We will consider all comments received by the closing date and may amend the proposed AD in light of those comments.

We will post all comments we receive, without change, to http://www.regulations.gov, including any personal information you provide. We will also post a report summarizing each substantive verbal contact with FAA personnel concerning this proposed rulemaking. Using the search function of our docket Web site, you can find and read the comments to any of our dockets, including the name of the individual who sent or signed the comment. You may review the DOT's complete Privacy Act Statement in the Federal Register published on April 11, 2000 (65 FR 19477-78).

Examining the Docket

You may examine the docket that contains the proposed AD, any comments, and other information in person at the Docket Operations office between 9 a.m. and 5 p.m., Monday through Friday, except Federal holidays. The Docket Operations office (telephone (800) 647-5527) is located in Room W12-140 on the ground floor of the West Building at the street address stated in the ADDRESSES section. Comments will be available in the AD docket shortly after receipt.

Discussion

This document proposes adopting a new AD for Model HH-1K, TH-1F, TH-1L, UH-1A, UH-1B, UH-1E, UH-1F, UH-1H, UH-1L, and UH-1P helicopters; and Southwest Florida Aviation Model UH-1B (SW204 and SW204HP) and UH-1H (SW205) helicopters. The AD would require creating a component history card or equivalent record for each grip; determining and recording the total hours TIS for each grip; visually inspecting the upper and lower tangs of the grip for a crack; inspecting the grip buffer pads for delamination, and if delamination is present, inspecting the grip surface for corrosion or other damage; inspecting the grip for a crack using UT and fluorescent-penetrant inspection methods; and establishing a retirement life for grips, part number (P/N) 204-011-121-009, ASI-4011-121-9, and P/N 204-011-121-121. This proposal is prompted by three in-flight failures of grips, P/N 204-011-121-009 and -121, installed on BHTI Model 212 helicopters, which resulted from cracks originating in the lower main rotor blade bolt lug. Grips with these same P/Ns, and those produced under an FAA Parts Manufacturing Approval (PMA) that have a design approval based on their being identical to the original BHTI-manufactured grips, are eligible for installation on certain modified Model HH-1K, TH-1F, TH-1L, and UH-1 helicopters. These helicopters have an FAA-approved modification which increases their power rating to the equivalent of the twin-engine Model 212 helicopter power rating. Grips, P/N 204-011-121-005, and -113, are also affected by the proposed AD if they were ever installed on a Model 205B or Model UH-1N helicopter; and grip, P/N 204-011-121-117, is also affected if it was ever installed on a Model 205B helicopter. Additionally, BHTI has developed a new, improved replacement grip that will not require the repetitive UT inspections and will have a 25,000 hour TIS and 500,000 Retirement Index Number (RIN) retirement life for the BHTI Model 212 helicopters. The RIN count accumulated for the new replacement grips will be increased by one for each take-off or each external lift event. The actions specified by the proposed AD are intended to prevent failure of the grip, separation of a main rotor blade, and subsequent loss of control of the helicopter.

We have reviewed the following service information:

• BHTI Alert Service Bulletin (ASB) 205B-02-39, Revision B, dated November 22, 2002, applicable to Model 205B helicopters; and

• BHTI ASB 212-02-116, Revision A, dated October 30, 2002, applicable to Model 212 helicopters.

Both ASBs contain BHTI Nondestructive Inspection Procedure, Log. No. 00-340, Revision E, dated April 9, 2002, which describes procedures for an UT inspection of the grip. We have also reviewed BHTI Operations Safety Notice (OSN) 204-85-6, OSN 205-85-9, and OSN 212-85-13, all dated November 14, 1985, which describe a cracked Model 212 helicopter grip that was returned to BHTI.

This unsafe condition is likely to exist or develop on other helicopters of the same type designs. Therefore, the proposed AD would require:

• Within 10 hours TIS, creating a component history card or equivalent record for the grip, and determining and recording the total hours TIS of each grip;

• Within 10 hours TIS, and then at intervals not to exceed 25 hours TIS, visually inspecting the upper and lower tangs of the grip for a crack using a 10-power or higher magnifying glass;

• Within 30 days, and then at intervals not to exceed certain specified hours TIS or a certain number of engine start/stops, whichever occurs first, for grips with certain specified hours TIS, inspecting the grip for a crack using a UT inspection method;

• At intervals not to exceed 1,200 hours TIS or 24 months, whichever occurs first, inspecting the grip buffer pads for delamination, and if delamination is present, inspecting the grip surface for corrosion or other damage;

• Within 2,400 hours TIS or at the next main rotor hub overhaul, whichever occurs first, and then at intervals not to exceed 2,400 hours TIS, removing the grip buffer pads, visually inspecting the grip surface for corrosion or other damage, and fluorescent-penetrant inspecting the grip for a crack;

• Before further flight, removing from service any grip, P/N 204-011-121-009 or ASI-4011-121-9, with 15,000 or more hours TIS;

• Before further flight, removing from service any grip, P/N 204-011-121-121, with 25,000 or more hours TIS;

• Before further flight, replacing any unairworthy grip; and

• Establishing a retirement life of 15,000 hours TIS for grip, P/N 204-011-121-009 or ASI-4011-121-9, and 25,000 hours TIS for grip, P/N 204-011-121-121.

We estimate that this proposed AD would affect 20 helicopters of U.S. registry, and the proposed actions would take the following approximate number of work hours per helicopter to accomplish at an average labor rate of $85 per work hour:

• Create new component history cards or equivalent: 2 work hours;

• Maintain records: 5 work hours per year;

• 24 visual inspections using a magnifying glass: 12 work hours per year;

• ½ of a buffer pad inspection: 1.5 hours per year;

• ¼ of a fluorescent penetrant inspection: .5 work hour per year;

• 4 UT inspections: 4 work hours per year; and

• Remove and replace grip set: 20 work hours per year.

Required parts would cost approximately $37,590 per set of grips. Based on these figures, we estimate the total cost impact of the proposed AD on U.S. operators to be $828,300, if one set of grips is installed on the total affected fleet of helicopters at the end of the first year.

Regulatory Findings

We have determined that this proposed AD would not have federalism implications under Executive Order 13132. Additionally, this proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a draft economic evaluation of the estimated costs to comply with this proposed AD. See the AD docket to examine the draft economic evaluation.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

List of Subjects in 14 CFR Part 39

Air transportation, Aircraft, Aviation safety, Incorporation by reference, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

Arrow Falcon Exporters, Inc. (Previously Utah State University); Firefly Aviation Helicopter Services (Previously Erickson Air-Crane Co.); California Department of Forestry; Garlick Helicopters, Inc.; Global Helicopter Technology, Inc.; Hagglund Helicopters, LLC (Previously Western International Aviation, Inc.); International Helicopters, Inc.; Precision Helicopters, LLC; Robinson Air Crane, Inc.; San Joaquin Helicopters (Previously Hawkins and Powers Aviation, Inc.); S.M.&T. Aircraft (Previously US Helicopters, Inc., UNC Helicopter, Inc., Southern Aero Corporation, and Wilco Aviation); Smith Helicopters; Southern Helicopter, Inc.; Southwest Florida Aviation International, Inc. (Previously Jamie R. Hill and Southwest Florida Aviation); Tamarack Helicopters, Inc. (Previously Ranger Helicopter Services, Inc.); US Helicopter, Inc. (Previously UNC Helicopter, Inc.); West Coast Fabrication; and Williams Helicopter Corporation (Previously Scott Paper Co.). Docket No. FAA-2010-0564; Directorate Identifier 2010-SW-13-AD.

Applicability: Model HH-1K, TH-1F, TH-1L, UH-1A, UH-1B, UH-1E, UH-1F, UH-1H, UH-1L, and UH-1P helicopters, and Southwest Florida Aviation Model UH-1B (SW204 and SW204HP) and UH-1H (SW205) helicopters, with main rotor grip (grip), part number (P/N) 204-011-121-009, -121, or ASI-4011-121-9, installed; or with grip, P/N 204-011-121-005 or -113, if the grip was ever installed on a Model 205B or a Model UH-1N helicopter, or P/N 204-011-121-117, installed, if the grip was ever installed on a Model 205B helicopter, certificated in any category.

Compliance: Required as indicated.

To prevent failure of a grip, separation of a main rotor blade, and subsequent loss of control of the helicopter, accomplish the following:

(a) Within 10 hours time-in-service (TIS), unless accomplished previously, create a component history card or equivalent record and determine and record the total hours TIS for each grip. If the total hours TIS cannot be determined from the helicopter records, assume and record 50 hours TIS for each month for which the hours cannot be determined with the grip installed on any helicopter. Continue to count and record the hours TIS and begin to count and record the number of times the helicopter engine(s) are started (engine start/stop cycles).

(b) Within 10 hours TIS, unless accomplished previously, and then at intervals not to exceed 25 hours TIS, without removing the main rotor blades:

(1) Clean the exposed surfaces of the upper and lower tangs of each grip with denatured alcohol and wipe dry.

(2) Using a 10-power or higher magnifying glass, visually inspect the exposed surfaces of the upper and lower tangs of each grip for a crack. Pay particular attention to the lower surface of each lower grip tang from the main rotor blade bolt-bushing flange to the leading and trailing edge of each grip tang. See Figure 1 of this AD.

BILLING CODE 4910-13-P

BILLING CODE 4910-13-C

(c) At the intervals shown in Table 1 of this AD, ultrasonic (UT) inspect each grip for a crack in accordance with the Bell Helicopter Textron, Inc. (BHTI) Nondestructive Inspection Procedure, Log No. 00-340, Revision E, dated April 9, 2002.

Table 1
UT inspect grip, P/N | Within 30 days, for a grip with the following or more hours TIS: | Thereafter, at intervals not to exceed the following number of hours TIS or the engine start/stop cycles, whichever occurs first:: Hours TIS | Thereafter, at intervals not to exceed the following number of hours TIS or the engine start/stop cycles, whichever occurs first:: Engine start/stop cycles
204-011-121-009 or ASI-4011-121-9 | 4,000 | 400 | 1,600
204-011-121-121 | 500 | 150 | 600
204-011-121-005 or -113, if the grip was EVER installed on a Model 205B or Model UH-1N helicopter | 4,000 | 400 | 1,600
204-011-121-117, if the grip was EVER installed on a Model 205B helicopter | 500 | 150 | 600

The UT inspection of the grip must be performed by a Nondestructive Testing (NDT) UT Level I Special, Level II, or Level III inspector who is qualified under the guidelines established by MIL-STD-410E, ATA Specification 105, AIA-NAS-410, or an FAA-accepted equivalent for qualification standards of NDT Inspection/Evaluation Personnel.

Note 1: You can find the Nondestructive Inspection Procedure attached to BHTI Alert Service Bulletin (ASB) 205B-02-39, Revision B, dated November 22, 2002, or BHTI ASB 212-02-116, Revision A, dated October 30, 2002.

(d) At intervals not to exceed 1,200 hours TIS or 24 months, whichever occurs first:

(1) Remove each main rotor blade, and

(2) Inspect each grip buffer pad on the inner surfaces of each grip tang for delamination (see Figure 1 of this AD). If there is any delamination, remove the buffer pad and inspect the grip surface for corrosion or other damage.

Note 2: This inspection interval coincides with the main rotor tension-torsion strap replacement times.

(e) Within 2,400 hours TIS or at the next overhaul of the main rotor hub, whichever occurs first, and then at intervals not to exceed 2,400 hours TIS:

(1) Remove each main rotor blade.

(2) Remove each grip buffer pad (if installed) from the inner surfaces of each grip tang.

(3) Visually inspect the grip surfaces for corrosion or other damage.

(4) Fluorescent-penetrant inspect (FPI) the grip for a crack, paying particular attention to the upper and lower grip tangs. When inspecting a grip, P/N 204-011-121-005, -009, or -113, or ASI-4011-121-9, pay particular attention to the leading and trailing edges of the grip barrel.

Note 3: FPI procedures are contained in BHTI Standard Practices Manual, BHT-ALL-SPM.

(f) Before further flight:

(1) Replace any cracked grip with an airworthy grip.

(2) Replace any grip with any corrosion or other damage with an airworthy grip, or repair the grip if the corrosion or other damage is within the maximum repair limitations found in the applicable Component and Repair Overhaul Manual.

Note 4: BHTI ASB 212-94-92, Revision A, dated March 13, 1995, and BHTI Operations Safety Notice (OSN) 204-85-6, OSN 205-85-9, and OSN 212-85-13, all dated November 14, 1985, also pertain to the subject of this AD.

(3) Remove any grip, P/N 204-011-121-009 or ASI-4011-121-9, that has been in service for 15,000 or more hours TIS.

(4) Remove any grip, P/N 204-011-121-121, that has been in service for 25,000 or more hours TIS.

(g) Revise the Airworthiness Limitations section of the applicable maintenance manual or the Instructions for Continued Airworthiness (ICA) by establishing a new retirement life of 15,000 hours TIS for grip, P/N 204-011-121-009 or ASI-4011-121-9, and 25,000 hours TIS for grip, P/N 204-011-121-121, by marking pen and ink changes or inserting a copy of this AD into the maintenance manual or ICA.

(h) Record a 15,000 hour TIS life limit for each grip, P/N 204-011-121-009 or ASI-4011-121-9, and a 25,000 hour life limit for each grip, P/N 204-011-121-121, on the applicable component history card or equivalent record.

(i) To request a different method of compliance or a different compliance time for this AD, follow the procedures in 14 CFR 39.19. Contact the Manager, Rotorcraft Certification Office, Attn: Michael Kohner, Aviation Safety Engineer, Rotorcraft Directorate, FAA, 2601 Meacham Blvd., Fort Worth, Texas 76137, telephone (817) 222-5170, fax (817) 222-5783, for information about previously approved alternative methods of compliance.

(j) The Joint Aircraft System/Component (JASC) Code is 6220: Main Rotor Head.

Issued in Fort Worth, Texas, on June 5, 2010.
Mark R. Schilling,
Acting Manager, Rotorcraft Directorate, Aircraft Certification Service.

[FR Doc. 2010-16511 Filed 7-7-10; 8:45 am]

BILLING CODE 4910-13-P